DEPARTMENT OF JUSTICE

Notice of Lodging of Stipulated Order Under the Clean Water Act

Notice is hereby given that on May 8, 2007, a proposed Stipulated Order in United States and State of Hawaii v. City and County of Honolulu, Case No. CV 07-00235 HG-KS (D. Hawaii), relating to the City and County of Honolulu's (CCH) sanitary sewage collection system, was lodged with the United States District Court for the District of Hawaii.

The proposed Stipulated Order is a settlement of claims for injunctive relief brought against CCH pursuant to the Clean Water Act, 33 U.S.C. 1251-1387, for the unauthorized discharge of pollutants into waters of the United States. The proposed Stipulated Order requires CCH to: (1) Construct replacement force mains; (2) assess the condition of specific force mains and a pump station and implement necessary repairs; and (3) submit site-specific spill contingency plans for designated force mains.

The Department of Justice will receive for a period of thirty (30) days from the date of this publication comments relating to the Stipulated Order. Comments should be addressed to the Assistant Attorney General, Environment and Natural Resources Division, and either e-mailed to pubcomment-ees.enrd@usdoj.gov, or mailed to P.O. Box 7611, U.S. Department of Justice, Washington, DC 20044-7611, with a copy to Robert Mullaney, U.S. Department of Justice, 301 Howard Street, Suite 1050, San Francisco, CA 94105, and should refer to United States and State of Hawaii v. City and County of Honolulu, D.J. Ref. 90-5-1-1-3825/1.

The Stipulated Order may be examined at U.S. EPA Region 9, Office of Regional Counsel, 75 Hawthorne Street, San Francisco, California. During the public comment period, the Stipulated Order may also be examined on the following Department of Justice Web site: http://www.usdoj.gov/enrd/Consent_Decrees.html. A copy of the Stipulated Order may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $9.75 (25 cents per page reproduction cost) payable to the U.S. Treasury or, if by e-mail or fax, forward a check in that amount to the Consent Decree Library at the stated address.

Henry Friedman,
Assistant Chief, Environmental Enforcement Section, Environment and Natural Resources Division.

[FR Doc. 07-2407 Filed 5-16-07; 8:45 am]

BILLING CODE 4410-15-M